DEPARTMENT OF COMMERCE

International Trade Administration

The President's Export Council: Meeting of the President's Export Council

AGENCY: International Trade Administration, U.S. Department of Commerce.

ACTION: Notice of an open meeting.

SUMMARY: The President's Export Council (PEC) will hold a full Council meeting to discuss topics related to export expansion. The meeting will include discussion of trade priorities and initiatives, PEC subcommittee activity, and proposed letters of recommendation to the President. The PEC was established on December 20, 1973, and reconstituted May 4, 1979, to advise the President on matters relating to U.S. trade. It was most recently renewed by Executive Order 13446.

Date: April 8, 2008.

Time: 10 a.m. (EDT)

Location: U.S. Department of Commerce, Room 4830, 1401 Constitution Avenue, NW., Washington, DC 20230. Because of building security, all non-government attendees must pre-register. Please RSVP to the PEC Executive Secretariat no later than April 4, 2008, to J. Marc Chittum, President's Export Council, Room 4043, 1401 Constitution Avenue, NW., Washington, DC 20230, telephone (202) 482-1124, or email Marc.Chittum@mail.doc.gov.

This program will be physically accessible to people with disabilities. Seating is limited and will be on a first come, first served basis. Requests for sign language interpretation, other auxiliary aids, or pre-registration, should be submitted no later than March 31, 2008, to Marc Chittum, President's Export Council, Room 4043, 1401 Constitution Avenue, NW., Washington, DC 20230, telephone (202) 482-1124, or email Marc.Chittum@mail.doc.gov.

FOR FURTHER INFORMATION, CONTACT: The President's Export Council Executive Secretariat, Room 4043, Washington, DC 20230 (Phone: 202-482-1124), or visit the PEC Web site, http://www.trade.gov/pec.

Dated: March 6, 2008.
J. Marc Chittum,
Executive Secretary, President's Export Council.

[FR Doc. E8-4893 Filed 3-11-08; 8:45 am]

BILLING CODE 3510-DR-P